DEPARTMENT OF COMMERCE

Foreign-Trade Zones Board

[B-03-2019]

Foreign-Trade Zone (FTZ) 68—El Paso, Texas; Notification of Proposed Production Activity; The Woodbridge Group (Flame Laminated Textiles) El Paso, Texas

The City of El Paso, grantee of FTZ 68, submitted a notification of proposed production activity to the FTZ Board on behalf of The Woodbridge Group (Woodbridge), located in El Paso, Texas. The notification conforming to the requirements of the regulations of the FTZ Board (15 CFR 400.22) was received on February 6, 2019.

The applicant indicates that it will be submitting a separate application for FTZ designation at the Woodbridge facility under FTZ 68. The facility is used to produce laminates by bonding foam/fabric or foam/film and passing the foam over an open flame. Pursuant to 15 CFR 400.14(b), FTZ activity would be limited to the specific foreign-status materials and components and specific finished products described in the submitted notification (as described below) and subsequently authorized by the FTZ Board.

Production under FTZ procedures could exempt Woodbridge from customs duty payments on the foreign-status components used in export production. On its domestic sales, for the foreign-status materials/components noted below, Woodbridge would be able to choose the duty rates during customs entry procedures that apply to: Synthetic textile fabrics laminated with polyurethane foam and woven scrim; vinyl goods laminated with polyurethane foam and knit or woven scrim backing; vinyl goods laminated with polyurethane foam; synthetic textile and cotton mix fabrics laminated with polyurethane foam; and, polyurethane foam laminated with woven scrim (duty rate ranges from 2.7% to 6.5%). Woodbridge would be able to avoid duty on foreign-status components which become scrap/waste. Customs duties also could possibly be deferred or reduced on foreign-status production equipment.

The components and materials sourced from abroad include: Vinyl coated fabric with polyvinyl chloride; woven polyester fabric yarn dyed and coated with polyurethane; synthetic leather rolls; vinyl leather imitation; artificial leather cloth; sheets of plastics—cellular—polyvinyl chloride fabric of man-made fibers; sheets of plastics—non-cellular—polyvinyl chloride; sheets of plastics—cellular—100% plastic; rolls of cotton fabric coated with polyvinyl chlorides; fabric of man-made fibers coated with over 70% plastic; fabric of man-made fibers coated with under 70% plastic; sheets of plastics—cellular—polyvinyl chloride—over 70% plastic combined with 65/35 poly cotton fabrics; sheets of plastics—cellular—of other plastics; woven synthetic fabric rolls 100% for automotive industry; polyvinyl chloride leather; 100% polyester knit fabrics; 9803X polyester nonwoven backing; polyester nonwoven scrim; and, knitted polyester fabric 100% (circular knit) (duty rate ranges from duty-free to 14.9%). The request indicates that the following components/materials will be admitted to the zone in privileged foreign status (19 CFR 146.41), thereby precluding inverted tariff benefits on such items: Vinyl coated fabric with polyvinyl chloride; woven polyester fabric yarn dyed and coated with polyurethane; synthetic leather rolls; vinyl leather imitation; artificial leather cloth; sheets of plastics—cellular—polyvinyl chloride fabric of man-made fibers; sheets of plastics—non-cellular—polyvinyl chloride; sheets of plastics—cellular—100% plastic; rolls of cotton fabric coated with polyvinyl chlorides; fabric of man-made fibers coated with over 70% plastic; fabric of man-made fibers coated with under 70% plastic; sheets of plastics—cellular—polyvinyl chloride—over 70% plastic combined with 65/35 poly cotton fabrics; sheets of plastics—cellular—of other plastics; woven synthetic fabric rolls 100% for automotive industry; polyvinyl chloride leather; 100% polyester knit fabrics; and, knitted polyester fabric 100% (circular knit). The request also indicates that certain materials/components are subject to special duties under Section 301 of the Trade Act of 1974 (Section 301), depending on the country of origin. The applicable Section 301 decisions require subject merchandise to be admitted to FTZs in privileged foreign status.

Public comment is invited from interested parties. Submissions shall be addressed to the Board's Executive Secretary at the address below. The closing period for their receipt is March 25, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: February 7, 2019.
Andrew McGilvray,
Executive Secretary.

[FR Doc. 2019-02179 Filed 2-12-19; 8:45 am]

BILLING CODE 3510-DS-P